DEPARTMENT OF JUSTICE

Notice of Lodging of Proposed Settlement Agreement Under the Comprehensive Environmental Response, Compensation, and Liability Act (“CERCLA”)

On October 12, 2021, the Department of Justice lodged a proposed Settlement Agreement in In re: LGA3 Corp., Civil Action No. 20-11456 with the United States Bankruptcy Court for the District of Delaware (Bankruptcy Court).

On June 1, 2020, Syracuse China Company and certain affiliates filed a voluntary petition for relief under Chapter 11 of the Bankruptcy Code, which was jointly administered as In re: Libbey Glass Inc. et al., Case No. 20-11439. Under the First Amended Joint Plan of Reorganization for Libbey Glass and its Affiliate Debtors Under Chapter 11 of the Bankruptcy Code, as confirmed by the Bankruptcy Court, the Debtors have reserved $900,000 as a General Unsecured Recovery Cash Pool to be distributed on a pro rata basis to holders of Allowed General Unsecured Claims.

The United States, on behalf of the United States Environmental Protection Agency (EPA), filed a proof of claim contending that Syracuse China Company was liable under the Comprehensive Environmental Response, Compensation, and Liability Act (CERCLA), 42 U.S.C. 9601-9675, for the United States' response costs incurred in response to releases and threats of releases of hazardous substances at or in connection with two Operable Units (OUs) of the Onondaga Lake Superfund Site, located in Syracuse, Onondaga County, New York. These OUs are referred to as the Lower Ley Creek OU and the Ley Creek Deferred Media OUs (collectively, the Ley Creek OUs).

Under the Settlement Agreement, the United States on behalf of EPA shall have an Allowed General Unsecured Claim in the amount of $6,616,976 to be allocated between the Ley Creek OUs in proportion to the alleged remedial action costs as alleged in the United States' proof of claim filed in this action.

The publication of this notice opens a period for public comment on the proposed Settlement Agreement. Comments should be addressed to the Assistant Attorney General, Environment and Natural Resources Division, Environmental Enforcement Section, and should refer to In re LGA3 Corp., Civil Action No. 20-11456 (Bankr. D. Del.), D.J. Ref. No. 90-11-3-08348/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.50 (25 cents per page reproduction cost) payable to the United States Treasury.

Henry Friedman,
Assistant Section Chief, Environmental Enforcement Section, Environment and Natural Resources Division.

[FR Doc. 2021-22622 Filed 10-15-21; 8:45 am]

BILLING CODE 4410-15-P